DEPARTMENT OF COMMERCE

International Trade Administration

[A-351-837, A-533-828, A-588-068, A-201-831, A-580-852, A-549-820]

Prestressed Concrete Steel Wire Strand From Brazil, India, Japan, Mexico, Republic of Korea and Thailand: Final Results of Expedited Sunset Reviews of Antidumping Duty Finding and Orders

AGENCY: Enforcement and Compliance, International Trade Administration, Department of Commerce.

SUMMARY: As a result of these sunset reviews, the Department of Commerce (Commerce) finds that revocation of the antidumping duty (AD) finding on prestressed concrete steel wire strand (PC Strand) from Japan and AD orders on PC Strand from Brazil, India, Mexico, Republic of Korea (Korea), and Thailand would be likely to lead to a continuation or recurrence of dumping, at the levels identified in the “Final Results of Sunset Reviews” section of this notice.

DATES: Applicable June 30, 2020.

FOR FURTHER INFORMATION CONTACT: Brian Smith or Samantha Kinney, AD/CVD Operations, Office VIII, Enforcement and Compliance, International Trade Administration, U.S. Department of Commerce, 1401 Constitution Avenue NW, Washington, DC 20230; telephone: (202) 482-1766 or (202) 482-2285, respectively.

SUPPLEMENTARY INFORMATION:

Background

On December 8, 1978 and January 28, 2004, Commerce published in the Federal Register notices of the AD finding on PC Strand from Japan and of the AD orders on PC Strand from Brazil, India, Mexico, Korea, and Thailand, respectively.¹ On March 2, 2020, Commerce published the initiation of the fifth sunset review of the AD finding on PC Strand from Japan, and the third sunset reviews of the AD orders on PC Strand from Brazil, India, Mexico, Korea, and Thailand, pursuant to section 751(c) of the Tariff Act of 1930, as amended (the Act).² On March 13, 2020, Commerce received timely and complete notices of intent to participate in these sunset reviews from Insteel Wire Products Company, Strand-Tech Manufacturing, Inc., Sumiden Wire Products Corporation, and Wire Mesh Corp. (collectively, domestic interested parties), within the deadline specified in 19 CFR 351.218(d)(1)(i).³ The domestic interested parties claimed interested party status within the meaning of section 771(9)(C) of the Act as U.S. producers in the United States of the domestic like product.⁴

¹ See Steel Wire Strand for Prestressed Concrete from Japan; Finding of Dumping, 43 FR 57599 (December 8, 1978) conducted by the Treasury Department (at the time a determination of dumping resulted in a “finding” rather than the later applicable “order”); Notice of Antidumping Duty Order: Prestressed Concrete Steel Wire Strand from Brazil, 69 FR 4112 (January 28, 2004); see also Notice of Antidumping Duty Order: Prestressed Concrete Steel Wire Strand from India, 69 FR 4110 (January 28, 2004); Notice of Antidumping Duty Order: Prestressed Concrete Steel Wire Strand from the Republic of Korea, 69 FR 4109 (January 28, 2004); Notice of Antidumping Duty Order: Prestressed Concrete Steel Wire Strand from Mexico, 69 FR 4112 (January 28, 2004); Notice of Amended Final Determination of Sales at Less Than Fair Value and Antidumping Duty Order: Prestressed Concrete Steel Wire Strand from Thailand, 69 FR 4111 (January 28, 2004). The AD finding on Japan and the AD orders on Brazil, India, Mexico, Korea, and Thailand are collectively referred to as AD Finding/Orders for purposes of this notice of the final results of these expedited sunset reviews.

² See Initiation of Five-Year (Sunset) Reviews, 85 FR 12253 (March 2, 2020).

³ See Domestic Interested Parties' Letters, “Prestressed Concrete Steel Wire Strand from Brazil—Domestic Interested Parties' Notice of Intent to Participate” (Intent to Participate for Brazil); “Prestressed Concrete Steel Wire Strand from India—Domestic Interested Parties' Notice of Intent to Participate” (Intent to Participate for India); “Prestressed Concrete Steel Wire Strand from Japan—Domestic Interested Parties' Notice of Intent to Participate” (Intent to Participate for Japan); “Prestressed Concrete Steel Wire Strand from the Republic of Korea—Domestic Interested Parties' Notice of Intent to Participate” (Intent to Participate for Korea); “Prestressed Concrete Steel Wire Strand from Mexico—Domestic Interested Parties' Notice of Intent to Participate” (Intent to Participate for Mexico); “Prestressed Concrete Steel Wire Strand from Thailand—Domestic Interested Parties' Notice of Intent to Participate” (Intent to Participate for Thailand); all dated March 13, 2020.

⁴ See Intent to Participate for Brazil at 3; see also Intent to Participate for India at 3; Intent to Participate for Japan at 3; Intent to Participate for Korea at 3; Intent to Participate for Mexico at 3; and Intent to Participate for Thailand at 3.

During March 2020 the domestic interested parties filed timely and adequate substantive responses, within the deadline specified in 19 CFR 351.218(d)(3)(i).⁵ Commerce did not receive substantive responses from any respondent interested party with respect to any of the AD Finding/Orders covered by these sunset reviews. As a result, pursuant to section 751(c)(3)(B) of the Act and 19 CFR 351.218(e)(1)(ii)(C)(2), Commerce conducted expedited (120-day) sunset reviews of the AD Finding/Orders.

⁵ See Domestic Interested Party's Letters, “Prestressed Concrete Steel Wire Strand From Brazil—Domestic Interested Parties' Substantive Response,” dated March 30, 2020; “Prestressed Concrete Steel Wire Strand from India—Domestic Interested Parties' Substantive Response,” dated March 30, 2020; “Prestressed Concrete Steel Wire Strand From Japan—Domestic Interested Parties' Substantive Response,” dated March 30, 2020; “Prestressed Concrete Steel Wire Strand From the Republic of Korea—Domestic Interested Parties' Substantive Response,” dated March 30, 2020; “Prestressed Concrete Steel Wire Strand from Mexico—Domestic Interested Parties' Substantive Response,” dated March 27, 2020; and “Prestressed Concrete Steel Wire Strand From Thailand—Domestic Interested Parties' Substantive Response,” dated March 27, 2020.

Scope of the Finding/Orders

The merchandise covered by the AD Finding/Orders is PC Strand from Brazil, India, Japan, Korea, Mexico, and Thailand. The subject merchandise is provided for in subheadings 7312.10.3010 and 7312.10.3012 of the Harmonized Tariff Schedule of the United States (HTSUS). Although HTSUS subheadings are provided for convenience and customs purposes, the written description of the scope is dispositive. A full description of the scope of the AD Finding/Orders is contained in the accompanying Issues and Decision Memorandum.⁶

⁶ See Memorandum, “Issues and Decision Memorandum for the Expedited Sunset Reviews of the Antidumping Duty Finding/Orders on Prestressed Concrete Steel Wire Strand from Brazil, India, Japan, Mexico, Republic of Korea, and Thailand,” dated concurrently with, and hereby adopted by, this notice (Issues and Decision Memorandum).

Analysis of Comments Received

A complete discussion of all issues raised in these sunset reviews, including the likelihood of continuation or recurrence of dumping in the event of revocation of the AD Finding/Orders and the magnitude of the margins likely to prevail if the AD Finding/Orders were to be revoked, is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://enforcement.trade.gov/frn/. The signed and electronic versions of the Issues and Decision Memorandum are identical in content.

Final Results of Sunset Reviews

Pursuant to sections 751(c)(1) and 752(c)(1) and (3) of the Act, Commerce determines that revocation of the AD Finding/Orders on PC Strand from Brazil, India, Japan, Korea, Mexico, and Thailand would be likely to lead to continuation or recurrence of dumping, and that the magnitude of the dumping margins likely to prevail would be weighted average margins of up to 118.75 percent for Brazil, 102.07 percent for India, 13.30 percent for Japan, 54.19 percent for Korea, 77.20 percent for Mexico, and 12.91 percent for Thailand.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results and notice in accordance with sections 751(c), 752(c), and 777(i)(1) of the Act, and 19 CFR 351.218 and 19 CFR 351.221(c)(5)(ii).

Dated: June 23, 2020.
Jeffrey I. Kessler,
Assistant Secretary for Enforcement and Compliance.

Appendix

List of Topics Discussed in the Issues and Decision Memorandum

I. Summary

II. Background

III. Scope of the AD Finding/Orders

IV. History of the AD Finding/Orders

V. Legal Framework

VI. Discussion of the Issues

1. Likelihood of Continuation or Recurrence of Dumping

2. Magnitude of the Dumping Margins Likely to Prevail

VII. Final Results of Sunset Reviews

VIII. Recommendation

[FR Doc. 2020-14036 Filed 6-29-20; 8:45 am]

BILLING CODE 3510-DS-P